DEPARTMENT OF HOMELAND SECURITY

Coast Guard

[Docket No. USCG-2009-0973]

Random Drug Testing Rate for Covered Crewmembers for 2016

AGENCY: Coast Guard, DHS.

ACTION: Notice of minimum random drug testing rate.

SUMMARY: The Coast Guard has set the calendar year 2016 minimum random drug testing rate at 25 percent of covered crewmembers.

DATES: The minimum random drug testing rate is effective January 1, 2016 through December 31, 2016. Marine employers must submit their 2015 Management Information System (MIS) reports no later than March 15, 2016.

ADDRESSES: Annual MIS reports may be submitted by electronic submission to the following Internet address: http://homeport.uscg.mil/Drugtestreports.

FOR FURTHER INFORMATION CONTACT: For questions about this notice, please contact Mr. Patrick Mannion, Drug and Alcohol Program Manager, Office of Investigations and Casualty Analysis (CG-INV), U.S. Coast Guard Headquarters, telephone 202-372-1033.

SUPPLEMENTARY INFORMATION: The Coast Guard requires marine employers to establish random drug testing programs for covered crewmembers on inspected and uninspected vessels in accordance with 46 CFR 16.230. Every marine employer is required by 46 CFR 16.500 to collect and maintain a record of drug testing program data for each calendar year, and submit this data by 15 March of the following year to the Coast Guard in an annual MIS report.

Each year, the Coast Guard will publish a notice reporting the results of random drug testing for the previous calendar year's MIS data and the minimum annual percentage rate for random drug testing for the next calendar year. The purpose of setting a minimum random drug testing rate is to assist the Coast Guard in analyzing its current approach for deterring and detecting illegal drug abuse in the maritime industry.

The Coast Guard announces that the minimum random drug testing rate for calendar year 2016 is 25 percent. The Coast Guard may increase this rate if MIS data indicates a qualitative deficiency of reported data or the positive random testing rate is greater than 1.0 percent in accordance with 46 CFR 16.230(f)(2). MIS data for 2015 indicates that the positive rate is less than one percent industry-wide (0.87 percent).

For 2016, the minimum random drug testing rate will continue at 25 percent of covered employees for the period of January 1, 2016 through December 31, 2016 in accordance with 46 CFR 16.230(e).

Dated: January 6, 2016.
Verne B. Gifford, Jr.,
Captain, USCG, Director of Inspections and Compliance.

[FR Doc. 2016-00341 Filed 1-11-16; 8:45 am]

BILLING CODE P